DEPARTMENT OF JUSTICE

Antitrust Division

Notice Pursuant to the National Cooperative Research and Production Act of 1993—Cooperative Research Group on High-Efficiency Dilute Gasoline Engine II

Notice is hereby given, on November 4, 2010, pursuant to Section 6(a) of the National Cooperative Research and Production Act of 1993, 15 U.S.C. 4301 et seq. (“the Act”), Southwest Research Institute—Cooperative Research Group on High-Efficiency Dilute Gasoline Engine II (“HEDGE II”) has filed written notifications simultaneously with the Attorney General and the Federal Trade Commission disclosing changes in its membership. The notifications were filed for the purpose of extending the Act's provisions limiting the recovery of antitrust plaintiffs to actual damages under specified circumstances. Specifically, Toyota Motor Corporation, Shizuoka, JAPAN, has been added as a party to this venture.

No other changes have been made in either the membership or planned activity of the group research project. Membership in this group research project remains open, and HEDGE II intends to file additional written notifications disclosing all changes in membership.

On February 19, 2009, HEDGE II filed its original notification pursuant to Section 6(a) of the Act. The Department of Justice published a notice in the Federal Register pursuant to Section 6(b) of the Act on April 2, 2009 (74 FR 15003).

The last notification was filed with the Department on September 1, 2010. A notice was published in the Federal Register pursuant to Section 6(b) of the Act on October 12, 2010 (75 FR 62569).

Patricia A. Brink,
Director of Civil Enforcement, Antitrust Division.

[FR Doc. 2010-31598 Filed 12-16-10; 8:45 am]

BILLING CODE 4410-11-M